DEPARTMENT OF ENERGY

Federal Energy Regulatory Commission

Combined Notice of Filings

Take notice that the Commission has received the following Natural Gas Pipeline Rate and Refund Report filings:

Filings Instituting Proceedings

Docket Number: PR18-76-000.

Applicants: Enbridge Pipelines (Oklahoma Transmission) L.L.C.

Description: Tariff filing per 284.123(b),(e)+(g): ECOP name change to be effective 8/2/2018.

Filed Date: 8/13/18.

Accession Number: 20180813-5159.

Comments Due: 5 p.m. ET 9/4/18.

284.123(g) Protests Due: 5 p.m. ET 10/12/18.

Docket Number: PR18-77-000.

Applicants: Columbia Gas of Ohio, Inc.

Description: Tariff filing per 284.123(b),(e)/: COH Rates effective July 31 2018.

Filed Date: 8/14/18.

Accession Number: 20180814-5047.

Comments/Protests Due: 5 p.m. ET 9/4/18.

Docket Number: PR18-78-000.

Applicants: Enbridge Pipelines (North Texas) L.P.

Description: Tariff filing per 284.123(b),(e)+(g): EPOT name change to be effective 8/3/2018.

Filed Date: 8/15/18.

Accession Number: 20180815-5082.

Comments Due: 5 p.m. ET 9/5/18.

284.123(g) Protests Due: 5 p.m. ET 10/15/18.

Docket Number: PR18-79-000.

Applicants: Enbridge Pipelines (East Texas) L.P.

Description: Tariff filing per 284.123(b),(e)+(g): EPET name change to be effective 8/3/2018.

Filed Date: 8/15/18.

Accession Number: 20180815-5083.

Comments Due: 5 p.m. ET 9/5/18.

284.123(g) Protests Due: 5 p.m. ET 10/15/18.

Docket Numbers: RP18-1056-000.

Applicants: Northern Natural Gas Company.

Description: § 4(d) Rate Filing: 2018 Carlton Flow Obligations to be effective 11/1/2018.

Filed Date: 8/13/18.

Accession Number: 20180813-5077.

Comments Due: 5 p.m. ET 8/27/18.

Docket Numbers: RP18-1057-000.

Applicants: Iroquois Gas Transmission System, L.P.

Description: § 4(d) Rate Filing: 081518 Negotiated Rates—Spotlight Energy, LLC R-7725-03 to be effective 10/1/2018.

Filed Date: 8/15/18.

Accession Number: 20180815-5018.

Comments Due: 5 p.m. ET 8/27/18.

Docket Numbers: RP18-1058-000.

Applicants: Iroquois Gas Transmission System, L.P.

Description: § 4(d) Rate Filing: 081518 Negotiated Rates—Spotlight Energy, LLC R-7725-04 to be effective 10/1/2018.

Filed Date: 8/15/18.

Accession Number: 20180815-5019.

Comments Due: 5 p.m. ET 8/27/18.

Docket Numbers: RP18-1059-000.

Applicants: Old Dominion Electric Cooperative, Inc.

Description: Petition for Temporary Waivers of Capacity Release Regulations, et al. of Old Dominion Electric Cooperative.

Filed Date: 8/13/18.

Accession Number: 20180813-5215.

Comments Due: 5 p.m. ET 8/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2018.
Nathaniel J. Davis, Sr.,
Deputy Secretary.

[FR Doc. 2018-18098 Filed 8-21-18; 8:45 am]

BILLING CODE 6717-01-P